DEPARTMENT OF STATE

[Public Notice 9152]

Privacy Act; System of Records: Official Gift Records and Gift Donor Vetting Records, State-80

SUMMARY: Notice is hereby given that the Department of State proposes to create a system of records, Official Gift Records and Gift Donor Vetting Records, State-80, pursuant to the provisions of the Privacy Act of 1974, as amended (5 U.S.C. 552a) and Office of Management and Budget Circular No. A-130, Appendix I.

DATES: This system of records will be effective on July 7, 2015, unless we receive comments that will result in a contrary determination.

ADDRESSES: Any persons interested in commenting on the new system of records may do so by writing to the Director; Office of Information Programs and Services, A/GIS/IPS; Department of State, SA-2; 515 22nd Street NW., Washington, DC 20522-8100.

FOR FURTHER INFORMATION CONTACT: John Hackett, Acting Director; Office of Information Programs and Services, A/GIS/IPS; Department of State, SA-2; 515 22nd Street NW., Washington, DC 20522-8100, or at Privacy@state.gov.

SUPPLEMENTARY INFORMATION: The Department of State proposes that the new system will be named “Official Gift Records and Gift Donor Vetting Records.” Official Gift Records consist of an accounting of all donations received on behalf of the Department of State for the purposes of: (a) Maintaining an historical record, (b) properly allocating donations given for a particular purpose, (c) determining future solicitation and gift acceptance, and (d) providing donors with acknowledgment letters for tax purposes.

Gift Donor Vetting Records are maintained for the purpose of: (a) Maintaining an historical record, and (b) keeping an accounting of the due diligence vetting conducted on individuals to determine the potential for conflicts of interest with respect to gifts and potential gifts to, and potential partnerships with, the Department of State.

The Department's report was filed with the Office of Management and Budget. The new system description, “Official Gift Records and Gift Donor Vetting Records, State-80,” will read as set forth below.

Joyce A. Barr,
Assistant Secretary for Administration, U.S. Department of State.

STATE-80

SYSTEM NAME:

Official Gift Records and Gift Donor Vetting Records.

SYSTEM CLASSIFICATION:

Unclassified and Classified.

SYSTEM LOCATION:

Department of State, 2201 C Street NW., Washington, DC 20520. Abroad at U.S. embassies, U.S. consulates general, and U.S. consulates; U.S. missions; Department of State annexes; various field and regional offices throughout the United States.

CATEGORIES OF INDIVIDUALS COVERED BY THE SYSTEM:

Individuals who have donated gifts, who are being solicited to donate gifts, and who are otherwise being vetted in connection with potential gifts to, or partnerships with, the Department of State (defined for the purposes of this System of Records Notice to include its subsidiary divisions including U.S. embassies, U.S. consulates general, U.S. consulates, U.S. missions, Department of State annexes, or various field and regional offices throughout the United States); and individuals who are points of contact for corporations or foundations that donate gifts to the Department of State.

CATEGORIES OF RECORDS IN THE SYSTEM:

Records in this system include information about gifts to the Department of State (“official gifts”), including gift donor and recipient information and information about individuals who are points of contact for corporate or foundation donors. Such information includes but is not limited to:

(a) Information about the donor or point of contact including name and title, address, and relevant business affiliations;

(b) Information about gifts and recipients including descriptions of gifts and decorations; the dollar value of gifts; the recipient bureau, region, post or office; the purpose of the donation as expressed by the donor and/or the soliciting office; the authority under which the gift was received; the date of receipt; type of gift (cash or in-kind); date of check deposit; deposit number; appropriation type (conditional or unconditional); copies of checks donated; copies of donor letters; copies of acknowledgment letters; and

(c) Vetting records, which include (1) identifying information about individual gift donors or potential gift donors or potential partners that is used to conduct and narrow due diligence research including the individual's full name, date of birth, last known residence, Web site if any, affiliation if any, and other identifying information used to conduct vetting; and (2) information obtained as a result of due diligence searches, including but not limited to criminal history information, financial history information including bankruptcies, information regarding judgments, liens, and global sanctions, and any other information relevant to the determination as to whether there is a conflict of interest.

AUTHORITY FOR MAINTENANCE OF THE SYSTEM:

22 U.S.C. 2621, 22 U.S.C. 2625, Foreign Service Buildings Act of 1926, Sec. 9, as amended (22 U.S.C. 300), State Department Basic Authorities Act of 1956, Sec. 25, as amended (22 U.S.C. 2697), Foreign Assistance Act of 1961, Sec. 695(d), as amended (22 U.S.C. 2395(d)), Migration and Refugee Assistance Act of 1962, Sec. 3(a)(2), as amended (22 U.S.C. 2602), Foreign Gifts and Decorations Act, as amended (5 U.S.C. 7342 and 22 CFR part 3) Acceptance of travel and related expense from non-Federal Sources (31 U.S.C. 1353) Mutual Educational and Cultural Exchange Act of 1961 (Fulbright-Hays), Sec. 105(f) and Sec. 108A, as amended (22 U.S.C. 2455(f) and 22 U.S.C. 2458(a)) 41 CFR parts 301 and 41 CFR part 304.

PURPOSE:

Official Gift Records consist of an accounting of all donations received on behalf of the Department of State for the purposes of: (a) Maintaining an historical record, (b) properly allocating donations given for a particular purpose, (c) determining future solicitation and gift acceptance, and (d) providing donors with acknowledgment letters for tax purposes.

Gift Donor Vetting Records are maintained for the purpose of: (a) Maintaining an historical record, and (b) keeping an accounting of the due diligence vetting conducted on individuals to determine the potential for conflicts of interest with respect to gifts and potential gifts to, and potential partnerships with, the Department of State.

ROUTINE USES OF RECORDS MAINTAINED IN THE SYSTEM, INCLUDING CATEGORIES OF USERS AND THE PURPOSES OF SUCH USES:

Information in this system can be shared with federal, state, and local tax authorities in connection with tax and bankruptcy matters and other lawful purposes.

The Department of State publishes periodically in the Federal Register its Prefatory Statement of Routine Uses which applies to all of its Privacy Act System of Records. These standard routine uses apply to Official Gift Records and Gift Donor Vetting Records, State-80.

POLICIES AND PRACTICES FOR STORING, RETRIEVING, ACCESSING, RETAINING, AND DISPOSING OF RECORDS IN THE SYSTEM:

STORAGE:

Electronic and hard copy media.

RETRIEVABILITY:

By an individual name; individual address; date of birth; individual Web site; donor country; recipient bureau, region, post or office; purpose; dollar value; date/fiscal year of receipt or deposit; corporation, foundation, or entity name; gift type (cash or in-kind); authority under which gift was received; deposit number; appropriation type.

SAFEGUARDS:

All users are given cyber security awareness training which covers the procedures for handling Sensitive But Unclassified (SBU) information, including personally identifiable information (PII). Annual refresher training is mandatory. In addition, all Foreign Service and Civil Service employees and those Locally Engaged Staff who handle PII are required to take the Foreign Service Institute distance learning course, PA 459, instructing employees on privacy and security requirements, including the rules of behavior for handling PII and the potential consequences if it is handled improperly. Before being granted access to Official Gift Records and Gift Donor Vetting Records, a user must first be granted access to the Department of State computer system.

Remote access to the Department of State network from non-Department owned systems is authorized only to unclassified systems and only through a Department approved access program. Remote access to the network is configured with the Office of Management and Budget Memorandum M-07-16 security requirements which include but are not limited to two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage. When it is determined that a user no longer needs access, the user account is disabled.

RETENTION AND DISPOSAL:

Records are retired and destroyed in accordance with published Department of State Records Disposition Schedules as approved by the National Archives and Records Administration (NARA). More specific information may be obtained by writing to the following address: Director, Office of Information Programs and Services, A/GIS/IPS; SA-2, Department of State; 515 22nd Street NW., Washington, DC 20522-8100.

SYSTEM MANAGER(S) AND ADDRESS:

Gift Fund Director, Office of Emergencies in the Diplomatic and Consular Service, Department of State, 2201 C Street NW., Washington, DC 20520.

Vetting Unit, Secretary's Office of Global Partnerships, Department of State, 2201 C Street NW., Washington, DC 20520.

Director and Curator, Diplomatic Reception Rooms, Department of State, 2201 C Street NW., Washington, DC 20520.

NOTIFICATION PROCEDURE:

Individuals who have cause to believe that the Official Gift Records and Gift Donor Vetting Records System may contain records pertaining to him or her should write to the following address: Director, Office of Information Programs and Services, A/GIS/IPS; SA-2 Department of State; 515 22nd Street NW., Washington, DC 20522-8100.

The individual must specify that the Official Gift Records and Gift Donor Vetting Records System should be checked. At a minimum, the individual must include the following: Name, date and place of birth, current mailing address and zip code, signature, and any other information helpful in identifying the record.

RECORD ACCESS PROCEDURES:

Individuals who wish to gain access to or amend records pertaining to themselves should write to the Director; Office of Information Programs and Services (address above).

CONTESTING RECORD PROCEDURES:

(See above).

RECORD SOURCE CATEGORIES:

These records contain information collected directly from: The individual who is the subject of these records; employers and public references; other officials in the Department of State; other government agencies; foreign governments; federal and public searchable databases; and other public and professional institutions possessing relevant information.

SYSTEMS EXEMPTED FROM CERTAIN PROVISIONS OF THE ACT:

None.

[FR Doc. 2015-12910 Filed 5-27-15; 8:45 am]

BILLING CODE 4710-36-P